NATIONAL SCIENCE FOUNDATION

National Science Foundation.

Correction to Notice of Availability of a Final Environmental Impact Statement/Comprehensive Environmental Evaluation (FEIS/FCEE)

SUMMARY: On November 16, 2004, the Federal Register published a notice from the National Science Foundation (NSF) regarding availability of a Final Environmental Impact Statement/Comprehensive Environmental Evaluation (FEIS/FCEE) for proposed activities in Antarctica. The Notice incorrectly calculated the sixty days public notice period to fall on January 18, 2005 rather than the actual date of January 16, 2005.

DATES: The public notice period contemplated by 45 CFR 641.18(d) ends January 15, 2005.

ADDRESSES: Dr. Polly A. Penhale, Office of Polar Programs, Room 755, National Science Foundation, 4201 Wilson Boulevard, Arlington, Virginia 22230. ppenhale@nsf.gov.

FOR FURTHER INFORMATION CONTACT: Dr. Polly A. Penhale, Office of Polar Programs, Room 755, National Science Foundation, 4201 Wilson Boulevard, Arlington, Virginia 22230, ppenhale@nsf.gov.

SUPPLEMENTARY INFORMATION: Pursuant to 16 U.S.C. 2403a and 45 CFR 641.18(d) notice of Availability of a Final Environmental Impact Statement/Comprehensive Environmental Evaluation for proposed activities in Antarctica was published in the Federal Register on November 16, 2004. That notice incorrectly calculated the sixty day public notice period contempalted by 45 CFR 641.18(d) to conclude on January 18, 2005. This notice corrects that date to the actual date when the sixty day public notice period ends, January 15, 2005.

Nadene G. Kennedy,
Permit Officer, Office of Polar Programs.

[FR Doc. 04-26405 Filed 11-29-04; 8:45 am]

BILLING CODE 7555-01-M